DEPARTMENT OF ENERGY

National Energy Technology Laboratory

Notice of Availability of a Financial Assistance Solicitation

AGENCY: U.S. Department of Energy (DOE), National Energy Technology Laboratory (NETL).

ACTION: Notice Inviting Financial Assistance Applications.

SUMMARY: The Department of Energy announces that it intends to conduct a competitive Program Solicitation, DE-PS26-01NT41092, and award financial assistance (Cooperative Agreements) for the program entitled “Energy Efficient Building Equipment and Envelop Technologies, Round III.” Through this solicitation, the DOE/NETL seeks applications on behalf of the Office of Building Technology, State and Community Programs in DOE's Office of Energy Efficiency and Renewable Energy (EERE) for innovative technologies that have the potential for significant energy savings in residential and commercial buildings. DOE is seeking to support projects that are advancing energy efficient equipment, envelope and whole building technologies. Specifically, the objective of the solicitation is to accelerate high-payoff technologies that, because of their risk, are unlikely to be developed in a timely manner without a partnership between industry and the Federal government.

DATES: The Program Solicitation will be available on the NETL Web site on or about December 15, 2000. Prospective offerors who would like to be notified as soon as the solicitation is available should register at http://www.netl.doe.gov/business/index.html. Provide your e-mail address and click on the heading “Energy Efficiency and Renewable Energy.” Once you subscribe, you will receive an announcement by e-mail that the solicitation has been released to the public.

ADDRESSES: The Program Solicitation, along with all amendments, will be available on the DOE/NETL's Internet address at http://www.netl.doe.gov/business/solicit. Applicants are therefore encouraged to periodically check this NETL address to ascertain the status of these documents. Applications must be prepared and submitted in accordance with the instructions and forms contained in the Program Solicitation.

FOR FURTHER INFORMATION CONTACT: John R. Columbia, MS: 921-107, U.S. Department of Energy, National Energy Technology Laboratory, 626 Cochrans Mill Road, P.O. Box 10940, Pittsburgh, PA 15236-0940, E-mail Address: columbia@netl.doe.gov, Telephone Number: (412) 386-6144.

SUPPLEMENTARY INFORMATION: DOE/NETL intends to select a group of projects programmatically balanced with respect to : (1) Technology category (equipment end uses, envelopes and whole buildings); (2) building type (residential and/or commercial); and (3) time of commercialization (short-term or long-term market potential of the technology). The solicitation will cover research and development on materials, components and systems applicable to both residential and commercial buildings. The solicitation will not support demonstration projects to deploy the technology on a large scale but will support proof of concept projects. The research and development areas of interest are as follows: Building Equipment—energy conversion and control equipment supplying lighting, space conditioning (heating, cooling, dehumidification and ventilation), water heating, refrigeration, and appliance services to building occupants and commercial operations; Building Envelope—materials, components and systems for windows, walls, roofs, foundations and other elements which comprise building exteriors and provide thermal integrity and daylighting; and Whole Building Technologies—the integration of components and systems which govern overall energy use and indoor environmental quality in a building.

The solicitation covers research in four technology maturation stages. Technology Maturation Stage 2 involves applied research; Technology Maturation Stage 3 involves exploratory development (non-specific applications and bench-scale testing); Technology Maturation Stage 4 involves advanced development (specific applications and bench-scale testing); and Maturation Stage 5 involves engineering development (pilot-scale and/or field testing). For projects spanning more than one maturation stage, continuation decision points will be inserted at the completion of each stage. Multiple awards are expected regardless of the technology maturation stage(s) proposed.

It is DOE's desire to encourage the widest participation, including the involvement of small business concerns and small disadvantaged business concerns. In order to gain the necessary expertise to review applications, non-Federal personnel may be used as evaluators or advisors in the evaluation of applications, but will not serve as members of the technical evaluation team. This particular program is covered by Section 3001 and 3002 of the Energy Policy Act (EPAct), 42 U.S.C. 13542 for financial assistance awards. EPAct 3002 requires a cost share commitment of at least 20 percent from non-Federal sources for research and development projects. Not all of the necessary funds are currently available for this solicitation; the Government's obligation under any cooperative agreement awarded is contingent upon the availability of appropriated FY2002 and FY2003 funds.

Issued in Pittsburgh, PA on November 30, 2000.
Dale A. Siciliano,
Deputy Director, Acquisition and Assistance Division.

[FR Doc. 00-31596 Filed 12-11-00; 8:45 am]

BILLING CODE 6450-01-P